DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 30, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Pale Cyst Nematode.

OMB Control Number: 0579-0322.

Summary of Collection: Under the Plant Protection Act (7 U.S.C. 7701-7772), the Secretary of Agriculture is authorized to prohibit or restrict the importation, entry, or movement of plants and plant pests to prevent the introduction of plant pests into the United States or their dissemination within the United States. APHIS' “Domestic Quarantine Notices” in 7 CFR 301, “Potato Cyst Nematode” (§§ 301.86 through 301.86.9) requires quarantining parts of Bingham and Bonneville counties, ID; due to the discovery of the potato cyst nematode (PCN) and establishes restrictions on the interstate movement of regulated articles from the quarantined area. This action is necessary to prevent the spread of the PCN via potatoes, soil, and other host material to non-infested areas of the United States.

Need and Use of the Information: APHIS will collect information using certificates, limited permits, compliance agreements, self-certification, appeal of withdrawn certificate or limited permit, appeal of withdrawn compliance agreement, and labeling to prevent the spread of PCN and to ensure that regulated articles can be moved safely from the quarantined area without spreading PCN. If APHIS did not collect this information, the spread of PCN in the United States could result in a loss of United States potatoes and other commodities from domestic and/or foreign markets.

Description of Respondents: Farms; Business or other for-profit.

Number of Respondents: 123.

Frequency of Responses: Reporting: On occasion.

Total Burden Hours: 445.

Ruth Brown,
Departmental Information Collection Clearance Officer.

[FR Doc. 2018-16180 Filed 7-30-18; 8:45 am]

BILLING CODE 3410-34-P